DEPARTMENT OF HOUSING AND URBAN DEVELOPMENT

[Docket No. FR-5288-N-10]

Notice of Proposed Information Collection for Public Comment; Recovery Act—Native American Housing Block Grant (NAHBG)

AGENCY: Office of Public and Indian Housing, HUD.

ACTION: Notice.

SUMMARY: The proposed information collection requirement described below will be submitted to the Office of Management and Budget (OMB) for review, as required by the Paperwork Reduction Act. The Department is soliciting public comments on the subject proposal.

DATES: Comments Due Date: November 23, 2009.

ADDRESSES: Interested persons are invited to submit comments regarding this proposal. Comments should refer to the proposal by name or OMB Control Number and should be sent to: Lillian L. Deitzer, Department Reports Management Officer, ODAM, Department of Housing and Urban Development, 451 7th Street, SW., Room 4116, Washington, DC 20410-5000; telephone: 202-708-2374, (this is not a toll-free number) or e-mail Ms. Deitzer at Lillian.L.Deitzer@HUD.gov for a copy of the proposed form and other available information.

FOR FURTHER INFORMATION CONTACT: Dacia Rogers, Office of Policy, Programs and Legislative Initiatives, PIH, Department of Housing and Urban Development, 451 Seventh Street, SW., Washington, DC 20410; telephone: 202-708-0713, (this is not a toll-free number).

SUPPLEMENTARY INFORMATION: The Department will submit the proposed information collection to OMB for review, as required by the Paperwork Reduction Act of 1995 (44 U.S.C. Chapter 35, as amended). This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Notice of Proposed Information Collection for Public Comment; Recovery Act—Native American Housing Block Grant (NAHBG).

OMB Control Number: 2577-0262.

Description of Information Collection: The NAHBG Recovery Act competitive funding program was adapted from the Indian Community Development Block Grant (ICDBG) program; an existing competitive grant program administered by the Department of Housing and Urban Development (HUD), Public and Indian Housing (PIH), Office of Native American Programs (ONAP) for eligible Indian tribes. Tribes or their tribally designated housing entities (TDHE) were required to submit application information to provide a description of how a tribe or TDHE would use Recovery Act funds to provide affordable housing and meet the intent of the Recovery Act. HUD, PIH, ONAP, was directed by the Recovery Act to provide $242,250,000 for competitive grants to eligible entities that receive NAHASDA funds. All awards have been made under this program. The collection of reporting information is now essential for HUD to monitor grants and ensure that grantees are making proper use of federal funding. The NAHBG program requires quarterly financial reporting and annual performance reporting.

Agency form number, if applicable: SF-272 (to be replaced by the SF-425 as of October 1, 2009). HUD-52735-AS, Annual Performance Report.

Members of affected public: State, Local or Tribal Government.

Estimation of the total number of hours needed to prepare the information collection including number of respondents: The estimated total number of burden hours needed to prepare the information collection is 17,340. The number of respondents is 102; the frequency of response for each form varies from quarterly and annually.

Status of the proposed information collection: Revision of a Currently Approved Collection.

Authority: Section 3506 of the Paperwork Reduction Act of 1995, 44 U.S.C. Chapter 35, as amended.

Dated: September 17, 2009.
Bessy Kong,
Deputy Assistant Secretary, Policy, Program and Legislative Initiatives.

[FR Doc. E9-22965 Filed 9-22-09; 8:45 am]

BILLING CODE 4210-67-P